NATIONAL AERONAUTICS AND SPACE ADMINISTRATION

[Notice 00-045]

Notice of Prospective Patent License

AGENCY: National Aeronautics and Space Administration.

ACTION: Notice of prospective patent license.

SUMMARY: NASA hereby gives notice that USA Video Interactive, Corp., of Mystic, CT, has applied for an exclusive license to practice the invention disclosed in U.S. Patent No. 5,426,512 entitled “Image Data Compression Having Minimum Perceptual Error (DCTUNE)” and U.S. Patent No. 5,629,780 entitled “Image-Adapted Visually Weighted Quantization Matrices For Digital Image Compression” which is assigned to the United States of America as represented by the Administrator of the National Aeronautics and Space Administration. Written objections to the prospective grant of a license should be sent to Ames Research Center.

DATES: Responses to this notice must be received by July 3, 2000.

FOR FURTHER INFORMATION CONTACT: Robert Padilla, Patent Counsel, NASA Ames Research Center, M/S 202A-3, Moffett Field, CA 94035-1000, (650) 604-5104.

Dated: April 26, 2000.
Edward A. Frankle,
General Counsel.

[FR Doc. 00-11132 Filed 5-3-00; 8:45 am]

BILLING CODE 7510-01-P